DEPARTMENT OF ENERGY

National Nuclear Security Administration; National Nuclear Security Administration Advisory Committee

AGENCY: National Nuclear Security Administration, Department of Energy.

ACTION: Notice of partially-closed meeting.

SUMMARY: This notice announces a meeting of the National Nuclear Security Administration Advisory Committee (NNSA AC). The Federal Advisory Committee Act, 5 U.S.C. App. 2 10(a)(2) requires that public notice of these meetings be announced in the Federal Register.

DATES: Tuesday, February 12 and Wednesday, February 13, 2002; 0900-1700.

Location: Science Applications International Corporation (SAIC), 1710 SAIC Drive (formerly Goodridge Drive), McLean, VA.

FOR FURTHER INFORMATION CONTACT: Betty (BJ) Morris, (202-586-6312) Executive Officer, NNSA AC.

SUPPLEMENTARY INFORMATION: Purpose of the Committee: To provide the Administrator for Nuclear Security with advice and recommendations on matters of technology, policy, and operations that lie within the mission and responsibilities of the National Nuclear Security Administration. Additional information about the Committee, including its charter, members, and charge, is available at: www.nnsa.gov.

Purpose of the Meeting: To discuss national security research, development, and policy programs.

Tentative Agenda

February 12, 2002

0900-0910 Chairman Opens Meeting (open)

0910-1100 Unclassified Discussion on Committee Issues (open)

1100-1200 Public Discussion (open)

1330-1700 Workshop for Members (closed)

1715 Adjourn

February 13, 2002

0900-1700 Classified Discussions (closed)

Closed Portions of Meeting: In the interest of national security, portions of the meeting will be closed to the public, pursuant to the Federal Advisory Committee Act, 5 U.S.C. App 2 10(d), and the Federal Advisory Committee Management Regulation, 41 CFR 102-3.155, “How are advisory committee meetings closed to the public?”, which incorporate by reference the Government in the Sunshine Act, 5 U.S.C. 552b, which, at 552b (c)(1) and (c)(3) permits closure of meetings where restricted data or other classified matters are discussed.

Open Portions of Meeting: Per the agenda posted above, a portion of the meeting will be open to the public for observation and comment. In order to accommodate the public, including facilitating access to meeting facilities, interested parties must contact Betty (BJ) Morris, NNSA AC Executive Officer, by 17:00, February 4, 2001, in order to make appropriate arrangements. Requests for comment will be accommodated on a first-come, first-serve basis.

Minutes: Minutes of the meeting will be recorded and classified accordingly.

Issued at Washington, DC January 16, 2002.

Rachel M. Samuel,
Deputy Advisory Committee Management Officer.

[FR Doc. 02-1474 Filed 1-18-02; 8:45 am]

BILLING CODE 6450-01-P